DEPARTMENT OF THE INTERIOR

National Park Service

[NPS-WASO-NRNHL-13957; PPWOCRADI0, PCU00RP14.R50000]

National Register of Historic Places; Notification of Pending Nominations and Related Actions

Nominations for the following properties being considered for listing or related actions in the National Register were received by the National Park Service before August 24, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by October 4, 2013. Before including your address, phone number, email address, or other personal identifying information in your comment, you should be aware that your entire comment—including your personal identifying information—may be made publicly available at any time. While you can ask us in your comment to withhold your personal identifying information from public review, we cannot guarantee that we will be able to do so.

Dated: August 28, 2013.
J. Paul Loether,
Chief, National Register of Historic Places/ National Historic Landmarks Program.

CALIFORNIA

Los Angeles County

Rubel Castle Historic District, 844 N. Live Oak Ave., Glendora, 13000810

FLORIDA

Hillsborough County

Perry, Harvey Sr., Park Skateboard Bowl, 900 E. Scott St., Tampa, 13000811

St. Johns County

Government House, (Florida's New Deal Resources MPS) 48 King St., St. Augustine, 13000812

GEORGIA

Jones County

Shaver, Herman and Allene, House, 1421 Monticello Hwy., Wayside Community, 13000813

ILLINOIS

Cook County

Hines, Edward Jr., Veterans Administration Hospital Historic District, (United States Second Generation Veterans Hospitals MPS) 5000 S. 5th Ave., Hines, 13000814

KANSAS

Dickinson County

Kubach, Gustave A., House, 101 S. Buckeye Ave., Abilene, 13000815

Johnson County

Westwood Hills Historic District, Bounded by State Line Rd., W. 50th St. Terr., Rainbow Blvd., N. side of W. 48th St. Terr., Westwood Hills, 13000816

Miami County

New Lancaster General Store, 36688 New Lancaster Rd., New Lancaster, 13000817

New Lancaster Grange Hall, No. 223, 12655 W. 367th St., New Lancaster, 13000818

Wyandotte County

Meeks, Cordell D. Sr., House, 600 Oakland Ave., Kansas City, 13000819

St. John the Divine Catholic Church, 2511 Metropolitan Ave., Kansas City, 13000820

MISSOURI

Jackson County

Braley, Charles A., House, 3 Dunford Cir., Kansas City, 13000821

OREGON

Multnomah County

Brooks, Andrew J. and Minnie J., House, 2216 SE. 32nd Ave., Portland, 13000822

WASHINGTON

King County

Ford Motor Company Assembly Plant, 4735 E. Marginal Way, Seattle, 13000823

WISCONSIN

Racine County

Burlington Cemetery Chapel, 701 S. Browns Lake Dr., Burlington, 13000824

[FR Doc. 2013-22769 Filed 9-18-13; 8:45 am]

BILLING CODE 4312-51-P